DEPARTMENT OF ENERGY

Federal Energy Regulatory Commission

[Docket No. EL12-7-000]

Hess Corporation v. PJM Interconnection, L.L.C.; Notice of Petition for Declaratory Order and Complaint

Take notice that on October 26, 2011, pursuant to Rules 207(a)(2) and 212 of the Rules of the Federal Energy Regulatory Commission's (Commission) Rules of Practice and Procedures, 18 CFR 385.207(a)(2) and 385.212, Hess Corporation (Complainant) filed a Petition for Declaratory Order requesting that the Commission determine that PJM Interconnection, L.L.C.'s (Respondent) current Open Access Transmission Tariff (OATT) permits the Respondent to make a minor adjustment to two phase angle regulators (PAR) owned by Public Service Electric and Gas Company for purposes of modeling Complainant's pending interconnection request for a proposed 625 MW gas-fired electric generating facility to be located in Newark, New Jersey. In the alternative, pursuant to section 206 of the Federal Power Act, 16 U.S.C. 824e and Rule 206 of the Commission's Rules of Practice and Procedure, 18 CFR 385.206, Complainant filed a formal complaint, requesting that the Commission revise the Respondent's Tariff and/or associated Manuals as necessary to require the Complainant to adjust PARs to accommodate generator interconnections, such as the interconnection of the Newark Energy Center, when such adjustment would not harm the reliability of the Respondent's system or impose costs on other customers.

The Complainant certifies that copies of the complaint were served on the contacts for the Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on November 25, 2011.

Dated: October 28, 2011.
Kimberly D. Bose,
Secretary.

[FR Doc. 2011-28689 Filed 11-4-11; 8:45 am]

BILLING CODE 6717-01-P